ENVIRONMENTAL PROTECTION AGENCY

[ER-FRL-6623-4]

Environmental Impact Statements; Notice of Availability

Responsible Agency: Office of Federal Activities, General Information (202) 564-7167 or www.epa.gov/oeca/ofa.

Weekly receipt of Environmental Impact Statements, Filed October 29, 2001 Through November 02, 2001, Pursuant to 40 CFR 1506.9.

EIS No. 010408, Final EIS, NPS, WA, Mount Rainier National Park General Management Plan, Implementation, Pierce and Lewis Counties, WA, Wait Period Ends: December 10, 2001, Contact: Eric Walkinshaw (360) 589-2211.

EIS No. 010409, Final EIS, NPS, CA, Lassen Volcanic National Park General Management Plan, Implementation, Lassen, Plumas, Shasta and Tehama Counties, CA, Wait Period Ends: December 10, 2001, Contact: Alan Schmierer (415) 427-1441.

EIS No. 010410, Final EIS, FHW, Interstate 215 (I-215) Transportation Improvements, From the short segments of CA-60 and CA-91 in the Cities of Riverside and Moreno Valley, Funding, Riverside County, CA, Wait Period Ends: December 10, 2001, Contact: Jeff Lewis (916) 498-5035.

EIS No. 010411, Draft Supplement, COE, FL, Central and Southern Florida Project, Indian River Lagoon-South Feasibility Study, Additional Information, Restoration, Protection and Preservation, Canals denoted; C-23, C-24, C-25 and C-44, Comprehensive Everglades Restoration Plan, (CERP), Martin and St. Lucie Counties, FL, Wait Period Ends: December 10, 2001, Contact: Laura Mahoney (904) 232-2646.

EIS No. 010412, Final EIS, BLM, OR, Southeastern Oregon Resource Management Plan, Implementation, Comprehensive Framework of Managing Public Land, Malheur, Jordan and Andrew Resource Areas, Vale and Burns Districts, Malheur, Harney and Grant Counties, OR, Wait Period Ends: December 24, 2001, Contact: Randy Eyre (541) 473-6279.

EIS No. 010413, Final EIS, FHW, MO, Interstate 70 Corridor Improvements, Kansas City to St. Louis, Funding, US Army COE Section 404 and 10 and US Coast Guard Section 9 Permits Issuance, several counties, MO, Wait Period Ends: December 10, 2001, Contact: Allen Masuda (573) 638-2620. This document is available on the Internet at: http://www.170study.org.

EIS No. 010414, Draft Supplement, AFS, OR, Silvies Canyon Watershed Restoration Project, Additional Information, To Improve the Ecosystem Health of the Watershed, Grant and Harney Counties, OR, Comment Period Ends: December 31, 2001, Contact: James M. Keniston (541) 573-4300. This document is available on the Internet at: http://(www.fs.fed.us/r6/malheur.

EIS No. 010415, Draft EIS, IBR, AZ, Reach 11 Recreation Master Plan, Central Arizona Project (CAP) Canal, Between Cave Creek and Scottdale Roads, For Recreational Purposes, Flood Detention Basin, City of Phoenix, Maricopa County, AZ, Comment Period Ends: January 18, 2002, Contact: Sandra Eto (602) 216-3857. This document is available on the Internet at: http://www.apo.lc.usbr.gov.

EIS No. 010416, Draft Supplement, NRC, Generic EIS—Decommissioning of Nuclear Facilities, Updated Information on Dealing With Decommissioning of Nuclear Power Reactors (NUREG-0586), Comment Period Ends: December 24, 2001, Contact: Dino C. Scaletti (301) 415-1104. This document is available on the Internet at: http:/www.nrc.gov/NRC/NUREGS/indexnum.html.

EIS No. 010417, Final EIS, UAF, VA, Initial F-22 Operational Wing Beddown Replacing the Existing F-15C at Langley (AFB) or one of the Four Alternative Locations, VA, Wait Period Ends: December 10, 2001, Contact: Brenda Cook (757) 764-5007.

Amended Notices

EIS No. 010305, Draft Supplement, FAA, MN, Flying Cloud Airport, Substantive Changes to Alternatives and New Information, Extension of the Runways 9R/27L and 9L/27R, Long-Term Comprehensive Development, In the City of Eden Prairie, Hennepin County, MN, Due: December 07, 2001, Contact: Glen Orcutt (612) 713-4354. Revision of FR Notice Published on 08/24/2001: CEQ Review Period Ending on 11/05/2001 has been Extended to 12/07/2001.

Dated: November 06, 2001.
Joseph C. Montgomery,
Director, NEPA Compliance Division, Office of Federal Activities.

[FR Doc. 01-28217 Filed 11-8-01; 8:45 am]

BILLING CODE 6560-50-U